DEPARTMENT OF TRANSPORTATION

Federal Aviation Administration

14 CFR Part 73

[Docket No. FAA-2010-0557; Airspace Docket No. 10-AWP-6]

RIN 2120-AA66

Revision of Restricted Area R-2504; Camp Roberts, CA

AGENCY: Federal Aviation Administration (FAA), DOT.

ACTION: Final rule.

SUMMARY: This action revises Restricted Area R-2504, Camp Roberts, CA, by subdividing the area of R-2504 to create R-2504A and R-2504B. Together, R-2504A and R-2504B will occupy the same lateral and vertical dimensions of the existing R-2504. The FAA is taking this action in response to a request from the United States (U.S.) Army. This action will fulfill Department of Defense training requirements while freeing unused airspace for use by nonparticipating civil aircraft, and allows the U.S. Army to activate only that portion of the airspace necessary to contain their operations.

DATES: Effective date 0901 UTC, September 23, 2010.

FOR FURTHER INFORMATION CONTACT: Ken McElroy, Airspace and Rules Group, Office of System Operations Airspace and AIM, Federal Aviation Administration, 800 Independence Avenue, SW., Washington, DC 20591; telephone: (202) 267-8783.

SUPPLEMENTARY INFORMATION:

History

In May 2009, the FAA Western Service Center, Operations Support Group in conjunction with the U.S. Army conducted a Special Use Airspace (SUA) review at Camp Roberts, CA. It was determined that the existing airspace was not being used efficiently and the U.S. Army requested the FAA take action to subdivide R-2504. This action is in response to that request.

The Rule

This action amends Title 14 Code of Federal Regulations (14 CFR) part 73 by revising R-2504, Camp Roberts, CA, dividing the area into two sub areas; R-2504A from the surface to but not including 6,000 feet mean sea level (MSL); and R-2504B from 6,000 MSL to 15,000 feet MSL. Together, R-2504A and R-2504B will occupy the same lateral and vertical dimensions of the existing R-2504. This action permits greater access to airspace by both Visual Flight Rules and Instrument Flight Rules aircraft during periods of activation of R-2504A and R-2504B. Since there are no changes to the boundaries, time of designation, or activities conducted within the affected restricted areas, notice and public procedures under 5 U.S.C. 533(b) are unnecessary.

Section 73.25 of Title 14 CFR part 73 was republished in FAA Order 7400.8S, effective February 16, 2010.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, section 106 describes the authority of the FAA Administrator. Subtitle VII, Aviation Programs, describes in more detail the scope of the agency's authority.

This rulemaking is promulgated under the authority described in subtitle VII, part A, subpart I, section 40103. Under that section, the FAA is charged with prescribing regulations to assign the use of the airspace necessary to ensure the safety of aircraft and the efficient use of airspace. This regulation is within the scope of that authority as it amends a restricted area for Camp Roberts, California.

Environmental Review

The FAA has determined that this action qualifies for categorical exclusion under the National Environmental Policy Act in accordance with FAA Order 1050.1E, “Environmental Impacts: Policies and Procedures,” paragraph 311d. This airspace action is not expected to cause any potentially significant environmental impacts, and no extraordinary circumstances exist that warrant preparation of an environmental assessment.

List of Subjects in 14 CFR Part 73

Airspace, Prohibited areas, Restricted areas.

Adoption of the Amendment

In consideration of the foregoing, the Federal Aviation Administration amends 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.25 [Amended]

2. § 73.25 is amended as follows:

* * * * *

R-2504 Camp Roberts, CA [Remove]

R-2504 A Camp Roberts, CA [New]

Boundaries. Beginning at lat. 35°42′18″ N., long. 120°47′59″ W.; to lat. 35°42′18″ N., long. 120°47′24″ W.; to lat. 35°42′58″ N., long. 120°45′37″ W.; to lat. 35°46′38″ N., long. 120°44′42″ W.; to lat. 35°47′18″ N., long. 120°44′49″ W.; to lat. 35°47′54″ N., long. 120°45′53″ W.; to lat. 35°49′10″ N., long. 120°45′44″ W.; to lat. 35°51′00″ N., long. 120°46′29″ W.; to lat. 35°51′11″ N., long. 120°47′59″ W.; to lat. 35°48′50″ N., long. 120°50′02″ W.; to lat. 35°46′00″ N., long. 120°49′59″ W.; to lat. 35°44′03″ N., long. 120°48′12″ W.; to lat. 35°43′08″ N., long. 120°49′04″ W.; to lat. 35°42′44″ N., long. 120°48′52″ W.; to the point of beginning.

Designated altitudes. Surface to but not including 6,000 feet MSL.

Time of designation. 0600 to 2400 PST, daily.

Controlling agency. FAA, Oakland ARTCC.

Using agency. Commander, Camp Roberts, CA.

* * * * *

R-2504 B Camp Roberts, CA [New]

Boundaries. Beginning at lat. 35°42′18″ N., long. 120°47′59″ W.; to lat. 35°42′18″ N., long. 120°47′24″ W.; to lat. 35°42′58″ N., long. 120°45′37″ W.; to lat. 35°46′38″ N., long. 120°44′42″ W.; to lat. 35°47′18″ N., long. 120°44′49″ W.; to lat. 35°47′54″ N., long. 120°45′53″ W.; to lat. 35°49′10″ N., long. 120°45′44″ W.; to lat. 35°51′00″ N., long. 120°46′29″ W.; to lat. 35°51′11″ N., long. 120°47′59″ W.; to lat. 35°48′50″ N., long. 120°50′02″ W.; to lat. 35°46′00″ N., long. 120°49′59″ W.; to lat. 35°44′03″ N., long. 120°48′12″ W.; to lat. 35°43′08″ N., long. 120°49′04″ W.; to lat. 35°42′44″ N., long. 120°48′52″ W.; to the point of beginning.

Designated altitudes. 6,000 feet MSL to 15,000 feet MSL.

Time of designation. 0600 to 2400 PST, daily.

Controlling agency. FAA, Oakland ARTCC.

Using agency. Commander, Camp Roberts, CA.

Issued in Washington, DC, on May 27, 2010.
Kenneth McElroy,
Acting Manager, Airspace and Rules Group.

[FR Doc. 2010-13607 Filed 6-4-10; 8:45 am]

BILLING CODE P